ENVIRONMENTAL PROTECTION AGENCY

40 CFR Part 63

[AD-FRL-6858-5]

RIN 2060-AH47

National Emission Standards for Hazardous Air Pollutant Emissions: Group IV Polymers and Resins

AGENCY: Environmental Protection Agency (EPA).

ACTION: Direct final rule; notice of stay.

SUMMARY: The EPA is taking direct final action to indefinitely stay the compliance date for the process contact cooling tower (PCCT) provisions for existing affected sources producing poly(ethylene terephthalate) (PET) using the continuous terephthalic acid (TPA) high viscosity multiple end finisher process. This stay is being issued because the EPA is in the process of responding to a request to reconsider relevant portions of the National Emission Standards for Hazardous Air Pollutants (NESHAP) for Group IV Polymers and Resins which may result in changes to the emission limitation which applys to PCCT in this subcategory. It is unlikely that the reconsideration process will be complete before actions are necessary to comply with the current PCCT standard; thus arises the need for an indefinite stay of the compliance date.

DATES: This rule is effective on October 30, 2000 without further notice unless the EPA receives adverse comments by September 28, 2000. However, the comment period may be extended if a hearing is held (see the proposed rule published elsewhere in this issue of the Federal Register). If we receive such comment, we will publish a timely withdrawal in the Federal Register informing the public that this rule will not take effect.

ADDRESSES: Comments. Written comments should be submitted (in duplicate, if possible) to: Air and Radiation Docket and Information Center (6102), Attention Docket Number A-92-45 (Group IV Polymers and Resins), Room M-1500, U.S. Environmental Protection Agency, 1200 Pennsylvania Avenue, NW, Washington, DC 20460. The EPA requests that a separate copy of each public comment be sent to the contact person listed below (see FOR FURTHER INFORMATION CONTACT). Comments may also be submitted electronically by following the instructions provided in SUPPLEMENTARY INFORMATION.

Docket. Docket number A-92-45, containing information relevant to this direct final rule, is available for public inspection between 8:00 a.m. and 5:30 p.m., Monday through Friday (except for Federal holidays) at the following address: U.S. Environmental Protection Agency, Air and Radiation Docket and Information Center (MC-6102), 401 M Street, SW, Washington, DC 20460. The docket is located at the above address in Room M-1500, Waterside Mall (ground floor).

FOR FURTHER INFORMATION CONTACT: Mr. Robert E. Rosensteel, Organic Chemicals Group, Emission Standards Division (MD-13), Office of Air Quality Planning and Standards, U.S. EPA, Research Triangle Park, NC 27711, telephone number (919) 541-5608, electronic mail address rosensteel.bob@epa.gov.

SUPPLEMENTARY INFORMATION: Comments. Comments and data may be submitted by electronic mail (e-mail) to: a-and-r-docket@epa.gov. Electronic comments must be submitted as an ASCII file to avoid the use of special characters and encryption problems and will also be accepted on disks in WordPerfect® version 5.1, 6.1 or Corel 8 file format. All comments and data submitted in electronic form must note the docket number A-92-45. No confidential business information (CBI) should be submitted by e-mail. Electronic comments may be filed online at many Federal Depository Libraries.

Commenters wishing to submit proprietary information for consideration must clearly distinguish such information from other comments and clearly label it as CBI. Send submissions containing such proprietary information directly to the following address, and not to the public docket, to ensure that proprietary information is not inadvertently placed in the docket: Attention: Mr. Robert Rosensteel, U.S. EPA, c/o OAQPS Document Control Officer, 411 W. Chapel Hill Street, Room 944, Durham, NC 27711. The EPA will disclose information identified as CBI only to the extent allowed by the procedures set forth in 40 CFR part 2. If no claim of confidentiality accompanies a submission when it is received by the EPA, the information may be made available to the public without further notice to the commenter.

Docket. The docket is an organized and complete file of all the information considered by the EPA in the development of this rulemaking. The docket is a dynamic file because material is added throughout the rulemaking process. The docketing system is intended to allow members of the public and industries involved to readily identify and locate documents so that they can effectively participate in the rulemaking process. Along with the proposed and promulgated standards and their preambles, the contents of the docket will serve as the record in the case of judicial review. (See section 307(d)(7)(A) of the Clean Air Act (CAA).) An index for each docket, as well as individual items contained within the dockets, may be obtained by calling (202) 260-7548 or (202) 260-7549. A reasonable fee may be charged for copying docket materials. Docket indexes are also available by facsimile, as described on the Office of Air and Radiation, Docket and Information Center Website at http://www.epa.gov/airprogm/oar/docket/faxlist.html. World Wide Web. In addition to being available in the docket, an electronic copy of this action is also available through the World Wide Web (WWW). Following signature, a copy of this action will be posted on the EPA's Technology Transfer Network (TTN) policy and guidance page for newly proposed or promulgated rules at http://www.epa.gov/ttn/oarpg. The TTN at EPA's web site provides information and technology exchange in various areas of air pollution control. If more information regarding the TTN is needed, call the TTN HELP line at (919) 541-5384.

Regulated Entities. Entities potentially regulated by this direct final rule include:

Category | SIC | NAICS | Examples of regulated entities
Industry | 2821 | 325211 | Facilities that produce PET using the continuous TPA high viscosity multiple end finisher process.

This table is not intended to be exhaustive, but rather provides a guide regarding entities likely to be affected by this action. To determine whether your facility is regulated by this rule, you should carefully examine the applicability criteria in 40 CFR part 63, subpart JJJ and in the proposed amendments to subpart JJJ (64 FR 11560). If you have any questions regarding the applicability of this rule to a particular entity, consult the person listed in the preceding FOR FURTHER INFORMATION CONTACT section. Judicial Review. Under section 307(b)(1) of the CAA, judicial review of this direct final rule is available by filing a petition for review in the U.S. Court of Appeals for the District of Columbia Circuit within December 27, 2000. Under section 307(b)(2) of the CAA, the requirements that are the subject of this direct final rule may not be challenged later in civil or criminal proceedings brought by the EPA to enforce these requirements.

The following outline is provided to aid you in reading the preamble to this direct final rule.

I. Why are we taking this action?

II. Whom does this stay impact?

III. What are the administrative requirements for this direct final rule?

I. Why Are We Taking This Action?

On September 12, 1996, we promulgated NESHAP for Group IV Polymers and Resins as subpart JJJ in 40 CFR part 63. The NESHAP establishes a new subcategory for PET manufacture specified as the continuous TPA high viscosity multiple end finisher subcategory. The NESHAP also establishes standards for PCCTs, contained in 40 CFR 63.1329, for existing affected sources in the new subcategory. The NESHAP requires existing affected sources in the continuous TPA high viscosity multiple end finisher subcategory to comply with 40 CFR 63.1329 beginning September 12, 1999. Subsequent to issuing the NESHAP, we extended the compliance date for the PCCT provisions contained in 40 CFR 63.1329 to February 27, 2001 (63 FR 15312).

A petition has been submitted to us requesting reconsideration of the technical basis for establishment of the continuous TPA high viscosity multiple end finisher subcategory (Docket: A-92-45). The petition presents new information related to the production processes for the manufacture of PET that the petitioner claims calls into question the need and justification for a separate subcategory for the continuous TPA high viscosity multiple end finisher process. The information presented in the petition has led us to accept the petitioner's request to reconsider the need for the continuous TPA high viscosity multiple end finisher subcategory.

There is a regulatory difference between the continuous TPA high viscosity multiple end finisher subcategory and other PET subcategories regarding the requirements to limit the concentration of ethylene glycol in PCCT for existing affected sources under the provisions contained in 40 CFR 63.1329. As a result of the petition for reconsideration, existing affected sources in this subcategory cannot be certain of subsequent amendments to the NESHAP.

In the past, representatives of one existing affected source in the continuous TPA high viscosity multiple end finisher subcategory informed us in writing (Docket: A-92-45) that they were on the verge of committing to capital expenditures to purchase equipment necessary to comply with the current PCCT standard. They did not want to commit to capital expenditures when the petition was still under consideration and requested relief from the PCCT standard. Because of the uncertainty regarding possible amendments to the final standard for PCCT, we provided a temporary extension of the compliance date to February 27, 2001 in a previous direct final rule (61 FR 15312).

As the February 27, 2001 compliance date approaches and we are still in the process of evaluating the petition to reconsider, the same need for relief from the compliance date exists. In addition, we have confirmed that the affected source in question cannot meet the current MACT standard for PCCT without making significant modifications to their existing recovery system which would require additional capital investment. Again, considering the level of uncertainty regarding possible amendment to the final standard for PCCT, the capital investment described above could be wasted if the control equipment installed to meet the current standards was not sufficient to meet subsequent amended standards. Therefore, we are now providing, under CAA section 301(a), an indefinite stay of the compliance date for the PCCT standard applicable to the continuous TPA high viscosity multiple end finisher subcategory.

This indefinite stay applies only to the PCCT emission limitation at existing affected sources producing PET using the continuous TPA high viscosity multiple end finisher process. It does not affect any other provisions of the NESHAP applying to this subcategory or any other subcategories. We intend to complete our reconsideration of the NESHAP and, following the notice and comment procedures of CAA section 307(d), take appropriate action as expeditiously as practical. We do not believe this stay will, as a practical matter, affect the overall effectiveness of the NESHAP. Following our reconsideration of the NESHAP, we will establish a new compliance date for the provisions contained in 40 CFR 63.1329.

We are publishing this direct final rule without prior proposal because we view this stay to be noncontroversial, and we anticipate no adverse comments. In addition, we believe that the “indefinite stay” of the compliance date associated with the PCCT standard should become effective as soon as possible. However, in the “Proposed Rules” section of today's Federal Register, we are publishing a separate document that will serve as a proposal to stay the compliance date associated with the PCCT standard if adverse comments are filed. This rule will be effective on October 30, 2000 without further notice unless we receive adverse comment on this direct final rule by September 28, 2000. If we receive an adverse comment on this action, we will publish a timely withdrawal in the Federal Register informing the public that the rule will not take effect. We will address all public comments in a subsequent final rule based on the proposed rule. We will not institute a second comment period on this action. Any parties interested in commenting must do so at this time.

II. Whom Does This Stay Impact?

We are issuing a stay of the existing source compliance date associated with the PCCT standard for the Group IV (subpart JJJ) Polymers and Resins NESHAP for existing affected sources producing PET using the continuous TPA high viscosity multiple end finisher process. Specifically, we are staying the provisions in 40 CFR 63.1311(c) by adding a note at the end of this paragraph explaining that the compliance date for the provisions of 40 CFR 63.1329 for existing affected sources producing PET using the continuous TPA high viscosity multiple end finisher process is stayed indefinitely.

This stay will affect you if you are the owner or operator of an existing affected source subject to the Group IV Polymers and Resins NESHAP that produces PET using the continuous TPA high viscosity multiple end finisher process and operate a PCCT. You will not be required to comply with the requirements for PCCT found in 40 CFR 63.1329 by February 27, 2001. Also, you will not be required to comply with the associated monitoring, recordkeeping, and reporting provisions at that time. When the final amendments to the NESHAP are promulgated, we will issue a new compliance date(s), providing you with a reasonable amount of time in which to comply with the amended NESHAP.

III. What Are the Administrative Requirements for This Direct Final Rule?

A. Executive Order 12866

Under Executive Order 12866 (58 FR 51735, October 4, 1993), the EPA must determine whether the regulatory action is “significant” and therefore subject to Office of Management and Budget (OMB) review and the requirements of the Executive Order. The Executive Order defines “significant regulatory action” as one that is likely to result in a rule that may:

(1) Have an annual effect on the economy of $100 million or more or adversely affect, in a material way, the economy, a sector of the economy, productivity, competition, jobs, the environment, public health or safety, or State, local, or tribal governments or communities;

(2) create a serious inconsistency or otherwise interfere with an action taken or planned by another agency;

(3) materially alter the budgetary impact of entitlement, grants, user fees, or loan programs or the rights and obligations of recipients thereof; or

(4) raise novel legal or policy issues arising out of legal mandates, the President's priorities, or the principles set forth in the Executive Order.

The EPA has determined that this rule does not meet any of the criteria enumerated above and therefore, does not constitute a “significant regulatory action” under the terms of Executive Order 12866 and was not required to be reviewed by OMB.

B. Executive Order 13045

Executive Order 13045 (62 FR 19885, April 23, 1997) applies to any rule that: (1) is determined to be “economically significant” as defined under Executive Order 12866, and (2) concerns an environmental health or safety risk that the EPA has reason to believe may have a disproportionate effect on children. If the regulatory action meets both criteria, the EPA must evaluate the environmental health or safety effects of the planned rule on children, and explain why the planned regulation is preferable to other potentially effective and reasonably feasible alternatives considered by the EPA.

The EPA interprets Executive Order 13045 as applying only to those regulatory actions that are based on health or safety risks, such that the analysis required under section 5-501 of the Executive Order has the potential to influence the regulation. This rule is not subject to Executive Order 13045 because it is not economically significant as defined in Executive Order 12866, and it is based on technology performance and not on health or safety risks.

C. Paperwork Reduction Act

For the Group IV Polymers and Resins NESHAP, the information collection requirements (ICR) were submitted to OMB under the Paperwork Reduction Act. At promulgation, OMB had already approved the ICR (#1737.01) and assigned OMB control number 2060-0351.

An agency may not conduct or sponsor, and a person is not required to respond to a collection of information unless it displays a currently valid OMB control number. The OMB control numbers for the EPA's regulations are listed in 40 CFR part 9 and 48 CFR Chapter 15. The EPA has amended 40 CFR 9.1 to include the OMB control number assigned to the Group IV Polymers and Resins NESHAP.

This action has no impact on the information collection burden estimates made previously. Therefore, the ICR has not been revised. Also, since this action will stay the compliance date indefinitely, an ICR is not needed.

D. Regulatory Flexibility

The EPA has determined that it is not necessary to prepare a regulatory flexibility analysis in connection with this direct final rule. The EPA has determined that this rule will not have a significant economic impact on a substantial number of small entities. Only one entity is subject to the PCCT standard, and it is not a small entity. In addition, this rule will relieve regulatory burden for all entities subject to the PCCT standard.

E. The Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This rule is not a “major rule” as defined by 5 U.S.C. 804(2). This rule will be effective October 30, 2000.

F. Unfunded Mandates Reform Act

Title II of the Unfunded Mandates Reform Act of 1995 (UMRA), Public Law 104-4, establishes requirements for Federal agencies to assess the effects of their regulatory actions on State, local, and tribal governments and the private sector. Under section 202 of the UMRA, the EPA generally must prepare a written statement, including a cost-benefit analysis, for proposed and final rules with “Federal mandates” that may result in expenditures to State, local, and tribal governments, in the aggregate, or to the private sector, of $100 million or more in any 1 year. Before promulgating an EPA rule for which a written statement is needed, section 205 of the UMRA generally requires the EPA to identify and consider a reasonable number of regulatory alternatives and adopt the least costly, most cost-effective or least-burdensome alternative that achieves the objectives of the rule. The provisions of section 205 do not apply when they are inconsistent with applicable law. Moreover, section 205 allows the EPA to adopt an alternative other than the least-costly, most cost-effective, or least-burdensome alternative if the Administrator publishes with the final rule an explanation why that alternative was not adopted. Before the EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that this rule does not contain a Federal mandate that may result in expenditures of $100 million or more for State, local, and tribal governments, in aggregate, or the private sector in any 1 year. Instead, this rule provides additional time to comply with certain requirements of the Group IV Polymer and Resins NESHAP. Thus, today's rule is not subject to the requirements of sections 202 and 205 of the UMRA.

We also have determined that this rule contains no regulatory requirements that might significantly or uniquely affect small governments. This rule does not impose any enforceable duties on small governments, i.e., they own or operate no sources subject to this rule and therefore are not required to purchase control systems to meet the requirements of this rule.

G. Executive Order 13132

Executive Order 13132, entitled “Federalism” (64 FR 43255, August 10, 1999), requires the EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

Under section 6 of Executive Order 13132, the EPA may not issue a regulation that has federalism implications, that imposes substantial direct compliance costs, and that is not required by statute, unless the Federal government provides the funds necessary to pay the direct compliance costs incurred by State and local governments, or the EPA consults with State and local officials early in the process of developing the proposed regulation. The EPA also may not issue a regulation that has federalism implications and that preempts State law, unless the EPA consults with State and local officials early in the process of developing the regulation.

This rule does not have federalism implications. It will not have substantial direct effects on the States, on the relationship between the national government and the States, or on the distribution of power and responsibilities among the various levels of government, as specified in Executive Order 13132. This rule merely provides additional time for one facility, which is not owned or operated by a State or local government, to comply with certain requirements of the Group IV Polymers and Resins NESHAP. Thus, the requirements of section 6 of Executive Order 13132 do not apply to this direct final rule.

H. Executive Order 13084

Under Executive Order 13084, the EPA may not issue a regulation that is not required by statute, that significantly or uniquely affects the communities of Indian tribal governments, and that imposes substantial direct compliance costs on those communities, unless the Federal government provides the funds necessary to pay the direct compliance costs incurred by the tribal governments, or the EPA consults with those governments. If the EPA complies by consulting, Executive Order 13084 requires the EPA to provide to OMB, in a separately identified section of the preamble to the rule, a description of the extent of the EPA's prior consultation with representatives of affected tribal governments, a summary of the nature of their concerns, and a statement supporting the need to issue the regulation. In addition, Executive Order 13084 requires the EPA to develop an effective process permitting elected and other representatives of Indian tribal governments “to provide meaningful and timely input in the development of regulatory policies on matters that significantly or uniquely affect their communities.”

This direct final rule does not significantly or uniquely affect the communities of Indian tribal governments. This action imposes no enforceable duties on these entities. Accordingly, the requirements of section 3(b) of Executive Order 13084 do not apply to this rule.

I. National Technology Transfer and Advancement Act

Section 12(d) of the National Technology Transfer and Advancement Act of 1995 (NTTAA), Public Law 104-113, (15 U.S.C. 272 note), directs all Federal agencies to use voluntary consensus standards instead of government-unique standards in their regulatory activities unless to do so would be inconsistent with applicable law or would be otherwise impractical. Voluntary consensus standards are technical standards (e.g., material specifications, test method, sampling and analytical procedures, business practices, etc.) that are developed or adopted by one or more voluntary consensus standards bodies. Examples of organizations generally regarded as voluntary consensus standards bodies include the American Society for Testing and Materials (ASTM), the National Fire Protection Association (NFPA), and the Society of Automotive Engineers (SAE). The NTTAA requires Federal agencies like the EPA to provide Congress, through OMB, with explanations when the EPA decides not to use available and applicable voluntary consensus standards.

This action does not involve technical standards. Therefore, the EPA did not consider the use of any voluntary consensus standards.

List of Subjects in 40 CFR Part 63

Environmental protection, Air pollution control, Hazardous substances, Intergovernmental relations, Reporting and recordkeeping requirements.

Dated: August 21, 2000.
Carol M. Browner,
Administrator.

Title 40 chapter I of the Code of Federal Regulations, is being amended as follows:

PART 63—NATIONAL EMISSION STANDARDS FOR HAZARDOUS AIR POLLUTANTS FOR SOURCE CATEGORIES

1. The authority citation for part 63 continues to read as follows:

Authority: 42 U.S.C. 7401 et seq.

Subpart JJJ—National Emission Standards for Hazardous Air Pollutant Emissions: Group IV Polymers and Resins

2. Amend § 63.1311 by revising paragraph (c) to read as follows:

§ 63.1311 Compliance dates and relationship to this subpart to existing applicable rules.

* * * * *

(c) Existing affected sources shall be in compliance with this subpart (except for § 63.1331 for which compliance is covered by paragraph (d) of this section) no later than June 19, 2001, as provided in § 63.6(c), unless an extension has been granted as specified in paragraph (e) of this section, except that the compliance date for the provisions contained in § 63.1329 is extended to February 27, 2001, for existing affected sources whose primary product, as determined using the procedures specified in § 63.1310(f), is PET using a continuous terephthalic acid high viscosity multiple end finisher process.

Note to paragraph (c): The compliance date of February 27, 2001 for the provisions of § 63.1329 for existing affected sources whose primary product, as determined using the procedures specified in § 63.1310(f), is PET using a continuous terephthalic acid high viscosity multiple end finisher process is stayed indefinitely. The EPA will publish a document in the Federal Register establishing a new compliance date for these sources.

* * * * *

[FR Doc. 00-21907 Filed 8-28-00; 8:45 am]

BILLING CODE 6560-50-P